DEPARTMENT OF ENERGY

Western Area Power Administration

Construction and Operation of the Trinity Public Utility District Direct Interconnection Project, Trinity County, CA

AGENCY: Western Area Power Administration, DOE.

ACTION: Notice of Intent To Prepare an Environmental Impact Statement and conduct scoping meetings; Notice of Floodplain and Wetlands Involvement.

SUMMARY: The Western Area Power Administration (Western), Department of Energy (DOE), intends to prepare an environmental impact statement (EIS) to construct and operate proposed power transmission facilities in Trinity County, California. The U.S. Forest Service (USFS) and the Bureau of Land Management (BLM) will participate in the preparation of the EIS, which will address the proposed removal of about 5.3 miles of 12-kilovolt (kV) distribution line, and the construction and operation of about 16 miles of new 60-kV transmission line, a tap structure and associated equipment, and a new switchyard. Input for the scope of the EIS may be provided in writing or at a scoping meeting in the project area.

DATES: Open-house public scoping meetings will be held:

1. July 10, 2006, 3 p.m.-7 p.m., Weaverville, CA.

2. July 11, 2006, 3 p.m.-7 p.m., Redding, CA.

The public scoping period starts with the publication of this notice in the Federal Register and will end at midnight on July 19, 2006. The Draft EIS is expected to be available in October 2006 and the Final EIS in April 2007. Western's Record of Decision (ROD) is expected in May 2007. The Draft EIS, Final EIS, and ROD will be issued only after Western's Administrator approves these documents.

ADDRESSES: The meeting locations are:

1. Weaverville—Victorian Inn, 1709 Main Street, Weaverville, CA 96093.

2. Redding—Oxford Suites, 1967 Hilltop Drive, Redding, CA 96002.

Written comments regarding the scoping process should be addressed to Ms. Cherie Johnston-Waldear, Western Area Power Administration, Sierra Nevada Region, 114 Parkshore Drive, Folsom, CA 95630-4710; fax (916) 985-1934; or e-mail waldear@wapa.gov.

FOR FURTHER INFORMATION CONTACT: Mr. Mark Wieringa, National Environmental Policy Act (NEPA) Document Manager, Western Area Power Administration, Corporate Services Office, P.O. Box 281213, Lakewood, CO 80228-8213; fax (720) 962-7263, or e-mail wieringa@wapa.gov for information about the proposed project, to be added to the project mailing list, or to receive a copy of the Draft EIS. For general information on DOE's NEPA review procedures or status of a NEPA review, contact Ms. Carol M. Borgstrom, Director of NEPA Policy and Compliance, EH-42, U.S. Department of Energy, 1000 Independence Avenue, SW., Washington, DC 20585, telephone (202) 586-4600 or (800) 472-2756.

SUPPLEMENTARY INFORMATION: Western is a power marketing agency of DOE that markets Federal electric power to statutorily defined customers including project use, municipalities, irrigation districts, and Native American tribes. Western initially proposed to prepare an Environmental Assessment (EA) for the proposed Trinity Public Utility District (PUD) Direct Interconnection Project on February 25, 2005. The USFS expressed concerns regarding potential impacts to the northern spotted owl and designated critical habitat and on Late Successional Reserve forest areas. Based on a review of the USFS concerns, Western determined to prepare an EIS, with USFS and BLM as cooperating agencies.

The EIS will address the environmental impacts of the removal of about 5.3 miles of existing 12-kV distribution line and the construction and operation of about 16 miles of new 60-kV transmission line, a tap structure and associated equipment, and a new switchyard in Trinity County. Western's EIS process will comply with NEPA (42 U.S.C. 4321-4347, as amended), Council on Environmental Quality regulations for implementing NEPA (40 Code of Federal Regulations [CFR] parts 1500-1508) and DOE NEPA implementing procedures (10 CFR part 1021). Because the proposed project may involve action in floodplains, the EIS will include a floodplain assessment and floodplain statement of findings following DOE regulations for compliance with floodplain and wetlands environmental review (10 CFR part 1022).

Purpose and Need

Western proposes to establish a direct connection between Western's Central Valley Project (CVP) and Trinity PUD at a higher voltage to strengthen power deliveries and enhance reliability of service. Delivery of CVP power to Trinity County, in part, is authorized by the Trinity River Division Act.

Proposed Project Description

The proposed project would include (1) removal of about 5.3 miles of old 12-kV distribution line from Trinity Power Plant at Trinity Dam to a tap point about 0.75 mile west of Lewiston Dam and construction of a new 60-kV transmission line to replace the 12-kV line on an expansion of the existing right-of-way (ROW), (2) construction of a tap structure with three-way switch equipment on the new 60-kV transmission line at the location near Lewiston Dam and a radial 1.2 miles tap line south to the existing Lewiston Substation on Trinity Dam Road, parallel to an existing distribution line, and (3) construction of a new 60-kV transmission line on a new ROW from the tap point west about 8.5 miles to the proposed new Weaverville Switchyard, which would be located about two miles south of Weaverville on the east side of Highway 299. Western will use the EIS scoping process to explore and refine any reasonable alternatives to the proposed route.

The new single-circuit 60-kV line would be constructed on single poles with steel reinforced aluminum conductors on horizontal line post insulators. An overhead ground wire or a fiber optic cable for remote operation of the transmission line would be mounted above the conductors. The poles would be 50 to 100 feet high, and the span between poles would average 350 feet. Specific spans could range from 100 to 500 feet. On average, there would be 17 poles per mile of transmission line, with approximately 272 poles required for the entire project. Pole heights, locations, and span lengths would vary depending on terrain and topography; structural limitations; cost; visual considerations; existing and proposed land uses; crossings of roads, canals, and other overhead lines; and other features specific to the project. Each pole would be set 8 to 10 feet deep in an augured hole, backfilled with excavated material. Some locations would not be accessible by vehicles on the ground; at these locations holes would be hand-dug and the poles flown in and set by helicopter.

The proposed new transmission line would require an 80-foot wide ROW. Generally the ROW would be acquired by Western as a utility easement; the underlying land owner or land manager would retain their existing ownership. Existing access roads and logging roads would be used to the extent possible for construction access, with a total of approximately two miles of new access roads required. These would primarily be short spurs from existing access roads to structure locations which would be restored after construction and not maintained as permanent roads. ROW clearing for the transmission line and new roads would require cutting trees. Western would enter into a timber contract with the landowner or land management agency for commercial timber produced from ROW clearing activities. Slash would be chipped for soil stabilization or piled for later burning in accordance with landowner or manager requirements.

Additional details on the individual segments follow:

Segment 1—Trinity Power Plant to Lewiston Tap

Segment 1 would consist of about 5.3 miles of new 60-kV transmission line between Trinity Substation at Trinity Power Plant and the tap point west of Lewiston Dam. Except for the last couple of spans to the tap point, and dropping off the hill east of the fish hatchery, the new line would be centered on an existing ROW presently occupied by a Trinity PUD 12-kV distribution line. This existing line would be removed and the ROW expanded to 80 feet in width to accommodate the larger transmission line. The old poles are not chemically treated and would be left along the edge of the ROW, reutilized by the landowner or manager, or cut up and placed in the slash piles for burning according to the preference of the landowner or manager. Hardware, conductors, and insulators would be removed from the ROW and reutilized or recycled.

Segment 1 would require about 90 new poles, four pulling sites, and 0.5 mile of access road. This segment passes through steep and rugged terrain, mostly within the Shasta-Trinity National Forest, with portions inside the Shasta-Trinity National Recreation Area, both administered by the USFS. About 1.0 mile is administered by the Bureau of Reclamation, 0.5 mile is owned by Sierra Pacific Industries (SPI), and 0.25 mile is private land.

Segment 2—Lewiston Tap to Lewiston Substation

Segment 2 would consist of constructing approximately 1.2 miles of new 60-kV transmission line between Lewiston Tap and Lewiston Substation within a new ROW parallel to an existing Trinity PUD distribution line. This radial feed would begin at the Lewiston Tap structure at the termination of Segment 1 and proceed south to Trinity PUD's existing Lewiston Substation on Trinity Dam Road north of Lewiston. The tap structure would be a steel pole with a three-way switch to accommodate the incoming Segment 1 line from Trinity Substation, the Segment 2 tap line to Lewiston Substation, and the outgoing Segment 3 line to the new Weaverville Substation. Existing access roads would be used, with only very short spurs from the existing parallel distribution line access road to the new structure locations as needed.

Segment 2 would require about 20 new poles, two pulling sites, and 0.3 mile of access road. This segment would cross a mix of National Forest, SPI, BLM, and private land as it parallels the Trinity River on the west bank.

Segment 3—Lewiston Tap to Weaverville Switchyard

Segment 3 would consist of about 8.5 miles of new 60-kV transmission line in a new ROW starting at Lewiston Tap. The line route would proceed west and northwest, then generally southwest to the site of the proposed new Weaverville Switchyard, located about two miles south of the center of Weaverville on the east side of Highway 299. Most of the area that would be crossed is also steep and rugged terrain similar to Segment 1. Existing access and logging roads would be used to the extent possible, with new roads limited to spurs to reach individual structure locations. Inaccessible areas would be reached by helicopter.

Segment 3 would require about 144 new poles, six pulling sites, and 1.2 miles of new access road. This segment would pass through land mostly owned by SPI, with much of the remaining property managed by BLM. About 0.25 mile is privately owned. Although this area is also rugged terrain, the route follows an existing SPI main access road along a ridge for much of its length avoiding the steeper areas and minimizing the need for new access roads.

Weaverville Switchyard

The proposed new Weaverville Switchyard would be constructed about two miles south of the center of Weaverville on the east side of Highway 299. This facility would have a footprint of approximately 90 by 110 feet, which would be located next to an abandoned section of old Highway 299. The old highway section would be used for access to the new switchyard. Two spur lines would connect the switchyard with a 60-kV transmission line nearby, presently owned by the Pacific Gas and Electric Company. This 60-kV transmission line would be acquired by the Trinity PUD. The spur lines would replace one span of the existing line, thus looping the line in and out of the proposed new switchyard. The site is forested and would be obtained from BLM. Any commercial timber resulting from clearing the site would be purchased from BLM under one of the timber contracts.

Alternatives

An alternative alignment of the tap line from Lewiston Tap to Lewiston Substation was identified, and an alignment crossing above Lewiston Dam was also explored. Western will use input from the public scoping process to determine if other alternatives should be developed and analyzed.

No Action Alternative

Under the No Action alternative, none of the proposed facilities would be constructed, and the existing 12-kV distribution line would be left in place.

Agency Responsibilities

Western has determined an EIS is required, in light of concerns about potential impact on northern spotted owls, their designated critical habitat, and on Late Successional Reserve forest. Western will be the lead Federal agency for preparing the EIS, as defined in 40 CFR 1501.5. In addition, USFS and BLM have been designated cooperating agencies. Western invites interested agencies, tribes, organizations, and members of the public to submit comments or suggestions to assist in identifying environmental issues and in determining the proper scope of the EIS. Western will invite other Federal, State, and local agencies, and tribal governments with jurisdiction by law or special expertise, with respect to environmental issues, to be cooperating agencies on the EIS, as defined in 40 CFR 1501.6. Such agencies also may make a request to Western to be a cooperating agency. Designated cooperating agencies have certain responsibilities to support the NEPA process, as specified in 40 CFR 1501.6 (b).

Environmental Issues

This notice is to inform agencies and the public of the proposed project and solicit comments and suggestions for consideration in preparing the scope of the EIS. To help the public frame its comments, this notice contains a list of potential environmental issues Western has tentatively identified for analysis. These issues include:

1. Impacts on protected, threatened, endangered, or sensitive species of animals or plants or their critical habitats;

2. Impacts on other biological resources;

3. Impacts on land use, recreation, and transportation;

4. Impacts on floodplains and wetlands;

5. Impacts on cultural or historic resources and tribal values;

6. Impacts on human health and safety;

7. Impacts on air, soil, and water resources (including air quality, surface water impacts, and ground water impacts);

8. Visual impacts; and

9. Socioeconomic impacts and disproportionately high and adverse impacts to minority and low-income populations.

This list is not intended to be all-inclusive or to imply any predetermination of impacts. Western invites interested parties to suggest specific issues within these general categories, or other issues not included above, to be considered in the scope of the EIS.

Public Participation

Opportunities for public participation are planned for the entire EIS process. Western anticipates the EIS process will take about 12 months and will include open-house public scoping meetings; consultation and involvement with appropriate Federal, State, and local agencies, and tribal governments; public review and hearings on the published Draft EIS; a review and comment period; a published Final EIS; and publication of a ROD. The USFS and BLM will publish separate RODs on their agency decisions. Additional informal public meetings could be held in the proposed project area if public interest and issues indicate a need. Western will mail newsletters to the mailing list developed for the proposed project to communicate project status and developments. Anyone may request to be placed on the mailing list.

Western will hold a 30-day scoping period to ensure interested members of the public, representatives of groups, and Federal, state, and local agencies, and tribal governments have an opportunity to provide input on the scope of alternatives and issues that will be addressed in the EIS. As part of the scoping period, Western will hold public open-house scoping meetings near the project area. Interested individuals and groups are invited to attend anytime between 3 p.m. and 7 p.m. according to the dates and locations noted above. The open-house scoping meetings will be informal, with Western representatives available for one-on-one discussions with attendees.

Attendees will have the opportunity to view maps of the proposed transmission line route, learn about the NEPA process and the proposed schedule, suggest changes and improvements to the proposed project, and obtain additional information. Written comments regarding environmental issues, alternatives, and other scoping issues may be turned in at the scoping meetings or may be provided by fax, e-mail, U.S. Postal Service, or other carrier to the Western contact provided under Addresses above. To be assured consideration, all comments or suggestions regarding the appropriate scope of the document must be received by July 19, 2006.

Comments on the proposed project may, however, be submitted at any time during the consultation and comment period of the EIS process.

Dated: June 13, 2006.
Michael S. Hacskaylo,
Administrator.

[FR Doc. E6-9585 Filed 6-16-06; 8:45 am]

BILLING CODE 6450-01-P